DEPARTMENT OF DEFENSE

Department of the Army

Performance Review Board Membership

AGENCY: Department of the Army, DoD.

ACTION: Notice.

SUMMARY: The Performance Review Board Membership list published in the Federal Register on Friday, October 17, 2014 (79 FR 62432) is amended to include the following individual: Mr. Gabriel O. Camarillo, Principal Deputy Assistant Secretary of the Army (Acquisition, Logistics and Technology), Office of the Assistant Secretary of the Army (Acquisition, Logistics and Technology).

The Department of the Army Performance Review Board will be composed of a subset of the individuals listed here and in the Federal Register on October 17, 2014.

FOR FURTHER INFORMATION CONTACT: Barbara Smith, Civilian Senior Leader Management Office, 111 Army Pentagon, Washington, DC 20310-0111.

Brenda S. Bowen,
Army Federal Register Liaison Officer.

[FR Doc. 2014-26637 Filed 11-7-14; 8:45 am]

BILLING CODE 3710-08-P